ENVIRONMENTAL PROTECTION AGENCY

[FRL-6867-3]

Gulf of Mexico Program (GMP) Citizens Advisory Committee (CAC) Meeting

AGENCY: Environmental Protection Agency (EPA).

ACTION: Notice.

SUMMARY: Under the Federal Advisory Act, Public Law 92463, EPA gives notice of a meeting of the GMP CAC.

DATES: The CAC meeting will be held on Tuesday, October 3, 2000, from 1 p.m. to 5:30 p.m. and on Wednesday, October 4, 2000, from 8:30 a.m. to 5 p.m.

ADDRESSES: The meeting will be held in the Capitol Facilities Conference Room, Second Floor, at the Mississippi Department of Marine Resources, 1141 Bayview Avenue, Biloxi, Mississippi 39530, (228) 374-5022, ext. 5249.

FOR FURTHER INFORMATION CONTACT: Gloria D. Car, Designated Federal Officer, Gulf of Mexico Program Office, Building 1103, Room 202, Stennis Space Center, MS 39529-6000 at (228) 688-2421.

SUPPLEMENTARY INFORMATION: Proposed agenda items will include: Election of Officers; Discussions of CAC Activities and Measures of Success; GMP FY 2001 Projects Report and Workplan Update; and CAC New Members' Handbook presentation. The meeting is open to the public.

Dated: August 29, 2000.
Gloria D. Car,
Designated Federal Officer.

[FR Doc. 00-23241 Filed 9-8-00; 8:45 am]

BILLING CODE 6560-50-P